SECURITIES AND EXCHANGE COMMISSION

[SEC File No. 270-440, OMB Control No. 3235-0496]

Proposed Collection; Comment Request

Upon Written Request, Copies Available From: Securities and Exchange Commission, Office of FOIA Services, 100 F Street NE., Washington, DC 20549-2736.

Extension:

Appendix F to Rule 15c3-1.

Notice is hereby given that pursuant to the Paperwork Reduction Act of 1995 (44 U.S.C. 3501 et seq.) (“PRA”), the Securities and Exchange Commission (“Commission”) is soliciting comments on the existing collection of information provided for in Appendix F to Rule 15c3-1 (“Appendix F” or “Rule 15c3-1f”) (17 CFR 240.15c3-1f) under the Securities Exchange Act of 1934 (15 U.S.C. 78a et seq.). The Commission plans to submit this existing collection of information to the Office of Management and Budget (“OMB”) for extension and approval.

Appendix F requires a broker-dealer choosing to register, upon Commission approval, as an OTC derivatives dealer to develop and maintain an internal risk management system based on Value-at-Risk (“VaR”) models. It is anticipated that a total of one (1) broker-dealer registering as an OTC derivatives dealer will spend 1,000 hours on a one-time basis complying with the system development requirements of Rule 15c3-1f, for an estimated one-time initial startup burden of approximately 1,000 hours. Appendix F also requires the OTC derivatives dealer to maintain its system model according to certain prescribed standards. It is anticipated that the four (4) OTC derivatives dealers currently registered with the Commission will each spend 1,000 hours per year maintaining the system model required by Rule 15c3-1f, for an estimated recurring annual burden of approximately 4,000 hours. It is anticipated that the one (1) broker-dealer registering as an OTC derivatives dealer will spend 1,000 hours maintaining the system model required by Rule 15c3-1f in each year following its registration. Thus, the total industry-wide burden is estimated to be approximately 5,000 hours (4,000 hours + 1,000 hours) for the first year and 5,000 hours for each subsequent year.¹

¹ The Commission estimates that a total of five entities will be registered as OTC derivatives dealers at the end of the next three years, consisting of the four current OTC derivatives dealers and one anticipated registrant. This is in contrast with the prior estimate of eight OTC derivatives dealers, consisting of four current OTC derivatives dealers and four anticipated registrants.

The records required to be kept pursuant to Appendix F and results of periodic reviews conducted pursuant to Rule 15c3-4 generally must be preserved under Rule 17a-4 of the Exchange Act (17 CFR 240.17a-4) for a period of not less than three years, the first two years in an easily accessible place. The Commission will not generally publish or make available to any person notices or reports received pursuant to the Rule. The statutory basis for the Commission's refusal to disclose such information to the public is the exemption contained in Section (b)(4) of the Freedom of Information Act (5 U.S.C. 552), which essentially provides that the requirement of public dissemination does not apply to commercial or financial information which is privileged or confidential.

Written comments are invited on: (a) Whether the proposed collection of information is necessary for the proper performance of the functions of the Commission, including whether the information shall have practical utility; (b) the accuracy of the Commission's estimates of the burden of the proposed collection of information; (c) ways to enhance the quality, utility, and clarity of the information collected; and (d) ways to minimize the burden of the collection of information on respondents, including through the use of automated collection techniques or other forms of information technology. Consideration will be given to comments and suggestions submitted in writing within 60 days of this publication.

An agency may not conduct or sponsor, and a person is not required to respond to, a collection of information under the PRA unless it displays a currently valid OMB control number.

Please direct your written comments to: Pamela Dyson, Director/Chief Information Officer, Securities and Exchange Commission, c/o Remi Pavlik-Simon, 100 F Street NE., Washington, DC 20549 or send an email to: PRA_Mailbox@sec.gov.

Dated: January 5, 2016.
Robert W. Errett,
Deputy Secretary.

[FR Doc. 2016-00256 Filed 1-8-16; 8:45 am]

BILLING CODE 8011-01-P